DEPARTMENT OF TRANSPORTATION

Federal Aviation Administration

14 CFR Part 39

[Docket No. FAA-2023-1411; Project Identifier MCAI-2023-00710-E; Amendment 39-22499; AD 2023-13-14]

RIN 2120-AA64

Airworthiness Directives; Safran Helicopter Engines, S.A. (Type Certificate Previously Held by Turbomeca, S.A.) Engines

AGENCY: Federal Aviation Administration (FAA), DOT.

ACTION: Final rule; request for comments.

SUMMARY: The FAA is superseding Airworthiness Directive (AD) 2023-01-12, which applied to all Safran Helicopter Engines, S.A. (Safran) Model Arriel 1C, Arriel 1C1, and Arriel 1C2 engines. AD 2023-01-12 required replacing affected fire detectors and prohibited installation of affected fire detectors. Since the FAA issued AD 2023-01-12, the FAA has determined that Model Arriel 1K1 engines are also affected by the unsafe condition. This AD is prompted by reports of false engine fire warnings. This AD requires replacing the affected fire detectors, prohibits installation of affected fire detectors, and adds Model Arriel 1K1 engines to the applicability, as specified in an European Union Aviation Safety Agency (EASA) AD, which is incorporated by reference (IBR). The FAA is issuing this AD to address the unsafe condition on these products.

DATES: This AD is effective July 25, 2023.

The Director of the Federal Register approved the incorporation by reference of a certain publication listed in this AD as of July 25, 2023.

The FAA must receive comments on this AD by August 24, 2023.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-1411; or in person at Docket Operations between 9 a.m. and 5 p.m., Monday through Friday, except Federal holidays. The AD docket contains this final rule, the mandatory continuing airworthiness information (MCAI), any comments received, and other information. The street address for Docket Operations is listed above.

Material Incorporated by Reference:

• For service information incorporated by reference in this final rule, contact EASA, Konrad-Adenauer-Ufer 3, 50668 Cologne, Germany; phone: +49 221 8999 000; email: ADs@easa.europa.eu; website: easa.europa.eu. You may find this material on the EASA website at ad.easa.europa.eu.

• You may view this service information at the FAA, Airworthiness Products Section, Operational Safety Branch, 1200 District Avenue, Burlington, MA 01803. For information on the availability of this material at the FAA, call (817) 222-5110. It is also available at regulations.gov under Docket No. FAA-2023-1411.

FOR FURTHER INFORMATION CONTACT: Kevin Clark, Aviation Safety Engineer, FAA, 1600 Stewart Avenue, Suite 410, Westbury, NY 11590; phone: (781) 238-7088; email: kevin.m.clark@faa.gov.

SUPPLEMENTARY INFORMATION:

Comments Invited

The FAA invites you to send any written data, views, or arguments about this final rule. Send your comments to an address listed under ADDRESSES. Include “Docket No. FAA-2023-1411; Project Identifier MCAI-2023-00710-E” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Kevin Clark, Aviation Safety Engineer, FAA, 1600 Stewart Avenue, Suite 410, Westbury, NY 11590. Any commentary that the FAA receives which is not specifically designated as CBI will be placed in the public docket for this rulemaking.

Background

The FAA issued AD 2023-01-12, Amendment 39-22306 (88 FR 3629, January 20, 2023) (AD 2023-01-12), for all Safran Helicopter Engines, S.A. (Type Certificate previously held by Turbomeca, S.A.) Model Arriel 1C, Arriel 1C1, and Arriel 1C2 engines. AD 2023-01-12 was prompted by an MCAI originated by EASA, which is the Technical Agent for the Member States of the European Union. EASA issued EASA AD 2022-0256, dated December 19, 2022 (EASA AD 2022-0256) to correct an unsafe condition identified as reports of false engine fire warnings.

AD 2023-01-12 required replacing the affected fire detectors and prohibited installation of affected fire detectors, as specified in EASA AD 2022-0256. The FAA issued AD 2023-01-12 to prevent false engine fire warnings.

Actions Since AD 2023-01-12 Was Issued

Since the FAA issued AD 2023-01-12, EASA superseded EASA AD 2022-0256 and issued EASA AD 2023-0110, dated May 26, 2023 (EASA AD 2023-0110) (referred to after this as the MCAI). The MCAI states that Safran determined that Model Arriel 1K and Arriel 1K1 engines may also have the affected fire detectors installed and are subject to the same unsafe condition. The MCAI retains the requirements of EASA AD 2022-0256 and expands the applicability to include the Model Arriel 1K and Arriel 1K1 engines.

You may examine the MCAI in the AD docket at regulations.gov under Docket No. FAA-2023-1411.

Related Service Information Under 1 CFR Part 51

The FAA reviewed EASA AD 2023-0110, which specifies procedures for replacing affected fire detectors. EASA AD 2023-0110 also specifies not to install an affected fire detector on any engine. This service information is reasonably available because the interested parties have access to it through their normal course of business or by the means identified in ADDRESSES.

This service information is reasonably available because the interested parties have access to it through their normal course of business or by the means identified in ADDRESSES.

FAA's Determination

These products have been approved by the aviation authority of another country and are approved for operation in the United States. Pursuant to the FAA's bilateral agreement with this State of Design Authority, it has notified the FAA of the unsafe condition described in the MCAI described above. The FAA is issuing this AD after determining that the unsafe condition described previously is likely to exist or develop on other products of the same type design.

AD Requirements

This AD retains none of the requirements of AD 2023-01-12, This AD adds Model Arriel 1K1 engines to the applicability and requires accomplishing the actions specified in the MCAI already described, except for any differences identified as exceptions in the regulatory text of this AD, and except as discussed under “Differences Between this AD and the MCAI”.

Differences Between This AD and the MCAI

Model Arriel 1K engines are contained in the applicability of EASA AD 2023-0110 but do not have an FAA type certificate. Therefore, this AD does not include those engines in the applicability.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because fire detectors that do not conform to the type design could lead to false engine fire warnings. Safran was informed of three occurrences of illumination of the engine fire alarm without confirmed fire (untimely illumination) on airframes equipped with affected fire detectors. False engine fire warnings are an unsafe condition requiring urgent corrective action because, if a helicopter is equipped with two engines with an affected fire detector installed, an engine fire warning could occur on both engines during the same flight. This unsafe condition, if not addressed, could lead to commanded in-flight engine shut-down, possibly resulting in damage to the helicopter and reduced control of the helicopter. Replacement of the fire detectors for Model Arriel 1K1 engines requires compliance within 30 flight hours or 60 days from the effective date of this AD. Replacement of the fire detectors for Model Arriel 1C, Arriel 1C1, and Arriel 1C2 engines requires compliance before further flight. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

The FAA estimates that this AD affects 30 engines installed on helicopters of U.S. registry.

The FAA estimates the following costs to comply with this AD:

Estimated Costs
Action | Labor cost | Parts cost | Cost per product | Cost on U.S. operators
Replace fire detectors | 1 work-hour × $85 per hour = $85 | $1,800 | $1,885 | $56,550

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2023-01-12, Amendment 39-22306 (88 FR 3629, January 20, 2023); and

b. Adding the following new airworthiness directive:

2023-13-14 Safran Helicopter Engines, S.A. (Type Certificate Previously Held by Turbomeca, S.A.): Amendment 39-22499; Docket No. FAA-2023-1411; Project Identifier MCAI-2023-00710-E.

(a) Effective Date

This airworthiness directive (AD) is effective July 25, 2023.

(b) Affected ADs

This AD replaces AD 2023-01-12, Amendment 39-22306 (88 FR 3629, January 20, 2023) (AD 2023-01-12).

(c) Applicability

This AD applies to all Safran Helicopter Engines, S.A. (Type Certificate previously held by Turbomeca, S.A.) Model Arriel 1C, Arriel 1C1, Arriel 1C2, and Arriel 1K1 engines.

(d) Subject

Joint Aircraft System Component (JASC) Code 7200, Engine (Turbine/Turboprop).

(e) Unsafe Condition

This AD was prompted by false engine fire warnings. The FAA is issuing this AD to prevent false engine fire warnings. The unsafe condition, if not addressed, could lead to commanded in-flight engine shut-down, possibly resulting in damage to the helicopter and reduced control of the helicopter.

(f) Compliance

Comply with this AD within the compliance times specified, unless already done.

(g) Required Actions

Except as specified in paragraphs (h) and (i) of this AD: Perform all required actions within the compliance times specified in, and in accordance with European Union Aviation Safety Agency (EASA) AD 2023-0110, dated May 26, 2023.

(h) Exceptions to EASA AD 2023-0110

(1) Where the “Reference Date” for Model Arriel 1K1 engines in Table 1 of EASA AD 2023-0110 specifies “The effective date of this [EASA] AD,” this AD requires using the effective date of this AD.

(2) Where the “Reference Date” for Model Arriel 1C, Arriel 1C1, and Arriel 1C2 engines in Table 1 of EASA AD 2023-0110 specifies “02 January 2023,” this AD requires compliance before further flight.

(3) This AD does not adopt the Remarks paragraph of EASA AD 2023-0110.

(4) Although the service information referenced in EASA AD 2023-0110 specifies to discard any removed fire detectors, this AD requires removing those parts from service.

(i) No Reporting Requirement

Although the service information referenced in EASA AD 2023-0110 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: ANE-AD-AMOC@faa.gov.

(2) Before using any approved AMOC, notify your appropriate principal inspector, or lacking a principal inspector, the manager of the local flight standards district office/certificate holding district office.

(k) Additional Information

For more information about this AD, contact Kevin Clark, Aviation Safety Engineer, FAA, 1600 Stewart Avenue, Suite 410, Westbury, NY 11590; phone: (781) 238-7088; email: kevin.m.clark@faa.gov.

(l) Material Incorporated by Reference

(1) The Director of the Federal Register approved the incorporation by reference of the service information listed in this paragraph under 5 U.S.C. 552(a) and 1 CFR part 51.

(2) You must use this service information as applicable to do the actions required by this AD, unless the AD specifies otherwise.

(i) European Union Aviation Safety Agency AD 2023-0110, dated May 26, 2023.

(ii) [Reserved]

(3) For EASA AD 2023-0110, contact EASA, Konrad-Adenauer-Ufer 3, 50668 Cologne, Germany; phone: +49 221 8999 000; email: ADs@easa.europa.eu. You may find this material on the EASA website at ad.easa.europa.eu.

(4) You may view this service information at the FAA, Airworthiness Products Section, Operational Safety Branch, 1200 District Avenue, Burlington, MA 01803. For information on the availability of this material at the FAA, call (817) 222-5110.

(5) You may view this service information that is incorporated by reference at the National Archives and Records Administration (NARA). For information on the availability of this material at NARA, email: fr.inspection@nara.gov, or go to: www.archives.gov/federal-register/cfr/ibr-locations.html.

Issued on June 30, 2023.
Michael Linegang,
Acting Director, Compliance & Airworthiness Division, Aircraft Certification Service.

[FR Doc. 2023-14585 Filed 7-6-23; 11:15 am]

BILLING CODE 4910-13-P